DEPARTMENT OF COMMERCE

International Trade Administration

[A-428-816]

Certain Cut-to-Length Carbon Steel Plate From Germany: Rescission of Antidumping Duty Administrative Review

AGENCY: Import Administration, International Trade Administration, U.S. Department of Commerce.

ACTION: Notice of Rescission of the Antidumping Duty Administrative Review for the Period August 1, 1999 through July 31, 2000.

SUMMARY: On October 2, 2000, in response to a request made by Bethlehem Steel Corporation and U.S. Steel Group, a unit of USX Corporation (collectively, the “Petitioners”), the Department of Commerce (“Department”) published the notice of initiation of an antidumping duty administrative review on certain cut-to-length carbon steel plate (“plate”) from Germany, for the period August 1, 1999 through July 31, 2000. Because the Petitioners have withdrawn their request for review, the Department is rescinding this review in accordance with 19 CFR 351.213(d)(1).

EFFECTIVE DATES: November 6, 2000.

FOR FURTHER INFORMATION CONTACT: Robert A. Bolling or James Doyle, Enforcement Group III, Office 9, Import Administration, International Trade Administration, U.S. Department of Commerce, 1401 Constitution Avenue, N.W., Washington, DC 20230; telephone: 202-482-3434 and 202-482-0159, respectively.

SUPPLEMENTARY INFORMATION:

Applicable Statute and Regulations

Unless otherwise indicated, all citations to the Tariff Act of 1930, as amended (“the Act”), are references to the provisions effective January 1, 1995, the effective date of the Uruguay Round Agreements Act. In addition, unless otherwise indicated, all citations to the Department's regulations are to the regulations codified at 19 CFR Part 351 (2000).

Background

On August 31, 2000, the Petitioners requested that the Department conduct an administrative review for the period August 1, 1999 through July 31, 2000, of Reiner Brach GmbH & Co. (“Reiner Brach”) a producer/exporter of the subject merchandise from Germany. October 2, 2000, the Department published a notice of initiation of the antidumping administrative review on plate from Germany, in accordance with 19 CFR 351.221(c)(1)(i). See Initiation of Antidumping and Countervailing Duty Administrative Reviews, 65 FR 58733 (October 2, 2000). On September 28, 2000, the Petitioners withdrew their request for review.

Rescission of Review

Pursuant to Departmental regulations, the Department will rescind an administrative review “if a party that requested the review withdraws the request within 90 days of the date of publication of notice of initiation of the requested review.” See 19 CFR 351.213(d)(1). The Petitioners withdrawal of their request for review was within the 90-day time limit; accordingly, we are rescinding the administrative review for the period August 1, 1999 through July 31, 2000, and will issue appropriate assessment instructions to the U.S. Customs Service.

This notice serves as a reminder to parties subject to administrative protective order (“APO”) of their responsibility concerning the disposition of proprietary information disclosed under APO in accordance with 19 CFR 351.305(a)(3). Timely written notification of the return or destruction of APO materials or conversion to judicial protective order is hereby requested. Failure to comply with the regulations and terms of an APO is a sanctionable violation. This determination is issued in accordance with 19 CFR 351.213(d)(4) and section 777(i)(1) of the Act.

Dated: October 31, 2000.
Joseph A. Spetrini,
Deputy Assistant Secretary, Enforcement Group III.

[FR Doc. 00-28427 Filed 11-3-00; 8:45 am]

BILLING CODE 3510-DS-P